FEDERAL MINE SAFETY AND HEALTH REVIEW COMMISSION

29 CFR Part 2700

Procedural Rules; Correction

AGENCY: Federal Mine Safety and Health Review Commission.

ACTION: Correcting amendments.

SUMMARY: On Friday, January 17, 2025, the Federal Mine Safety and Health Review Commission (the “Commission”) revised the Commission's procedural rules governing administrative trial and appellate review of cases arising under the Federal Mine Safety and Health Act of 1977 (the “Mine Act”). That document contains an incorrect date and a typographical error. This document corrects the final regulations.

DATES: Effective February 20, 2026.

FOR FURTHER INFORMATION CONTACT: Rory P. Smith, Attorney-Advisor, Office of the General Counsel, Federal Mine Safety and Health Review Commission, 1331 Pennsylvania Ave NW, Washington, DC, 20004 (202)525-8649.

SUPPLEMENTARY INFORMATION: This document corrects two of the final rules published in the Federal Register on January 17, 2025, 90 FR 5610. In 29 CFR 2700.5(e)(6), a typographical error is corrected to change the word “sealing” to “unsealing.” In 29 CFR 2700.8(e)(1), a day of the week set forth is changed to correctly correspond with a date.

List of Subjects in 29 CFR Part 2700

Administrative practice and procedure, Confidential business information, Mine safety and health, Penalties, Whistleblowing.

Accordingly, 29 CFR part 2700 is corrected by making the following correcting amendments:

PART 2700—PROCEDURAL RULES

1. The authority citation for part 2700 continues to read as follows:

Authority: 30 U.S.C. 815, 820, and 823.

Subpart A—General Provisions

2. Amend § 2700.5 by revising the third sentence of paragraph (e)(6) to read as follows:

§ 2700.5 General requirements for pleadings and other documents; filing requirements; status or informational requests.

* * * * *

(e) * * *

(6) * * * Prior to unsealing a filing, the Commission shall provide the party that submitted the filing a reasonable opportunity to object to the unsealing or to withdraw the filing. * * *

* * * * *

3. Amend § 2700.8 by revising the first sentence of paragraph (e)(1) to read as follows:

§ 2700.8 Computation of time.

* * * * *

(e)(1) * * * A motion is filed with the Commission on Wednesday, July 2, 2025. * * *

* * * * *

Dated: February 18, 2026.
Rory P. Smith,
Attorney-Advisor, Federal Mine Safety and Health Review Commission.

[FR Doc. 2026-03422 Filed 2-19-26; 8:45 am]

BILLING CODE 6735-01-P